DEPARTMENT OF THE TREASURY

Senior Executive Service; Financial Management Service Performance Review Board (PRB)

AGENCY: Financial Management Service, Treasury.

ACTION: Notice.

SUMMARY: This notice announces the appointment of members to the Financial Management Service (FMS) Performance Review Board (PRB).

DATES: This notice is effective on October 2, 2012.

FOR FURTHER INFORMATION CONTACT: Wanda J. Rogers, Deputy Commissioner, Financial Management Service, 401 14th Street SW., Washington, DC; (202) 874-7000.

SUPPLEMENTARY INFORMATION: Pursuant to 5 U.S.C. 4314(c) (4), this notice is given of the appointment of individuals to serve as members of the FMS PRB. This Board reviews the performance appraisals of career senior executives below the Assistant Commissioner level and makes recommendations regarding ratings, bonuses, and other personnel actions. Four voting members constitute a quorum. The names and titles of the FMS PRB members are as follows:

Primary Members

Wanda J. Rogers, Deputy Commissioner

Kristine S. Conrath, Assistant Commissioner, Federal Finance

Jeffrey Schramek, Assistant Commissioner, Debt Management Services

Sheryl R. Morrow, Assistant Commissioner, Payment Management

Patricia M. Greiner, Assistant Commissioner, Management/CFO

Dated: September 24, 2012.
Wanda J. Rogers,
Deputy Commissioner.

[FR Doc. 2012-24154 Filed 10-1-12; 8:45 am]

BILLING CODE 4810-35-M